DEPARTMENT OF AGRICULTURE

Food Safety and Inspection Service

[Docket No. FSIS-2010-0013]

Codex Alimentarius Commission: Meeting of the Codex Alimentarius Commission

AGENCY: Office of Food Safety, USDA.

ACTION: Notice of public meeting and request for comments.

SUMMARY: The Office of Food Safety, U.S. Department of Agriculture (USDA), is sponsoring a public meeting on June 8, 2010. The objective of the public meeting is to provide information and receive public comments on agenda items and draft United States (U.S.) positions that will be discussed at the 33rd Session of the Codex Alimentarius Commission (CAC), which will be held in Geneva, Switzerland, July 5-9, 2010. The Office of Food Safety recognizes the importance of providing interested parties the opportunity to obtain background information on the 33rd Session of the CAC and to address items on the agenda.

DATES: The public meeting is scheduled for June 8, 2010, from 1 p.m. to 4 p.m.

ADDRESSES: The public meeting will be held at USDA, Room 107-A, Jamie L. Whitten Building, 1400 Independence Avenue, SW., Washington, DC 20250. Documents related to the 33rd Session of the CAC will be accessible via the World Wide Web at the following address: http://www.codexalimentarius.net/current.asp.

The U.S. Delegate to the 33rd Session of the CAC invites interested U.S. parties to submit their comments electronically to the following e-mail address Barbara.McNiff@fsis.usda.gov.

Conference Call-in Number

There will be a conference call-in number to the CAC public meeting. The call-in information is as follows: please call 1-866-692-3158, when asked for the conference code, please enter: 5986642.

For Further Information About the 33rd Session of the CAC and About the Public Meeting Contact: Barbara McNiff, U.S. Codex Office, 1400 Independence Avenue, SW., Room 4861-S, Washington, DC 20250, Telephone: (202) 690-4719, Fax: (202) 720-3157, E-mail: Barbara.Mcniff@fsis.usda.gov.

SUPPLEMENTARY INFORMATION:

Background

The Codex Alimentarius Commission (Codex) was established in 1963 by two United Nations organizations, the Food and Agriculture Organization (FAO) and the World Health Organization (WHO). Through adoption of food standards, codes of practice, and other guidelines developed by its committees, and by promoting their implementation by governments, Codex seeks to protect the health of consumers and ensure fair practices in food trade; and promote coordination of all food standards work undertaken by international governmental and non-governmental organizations. The CAC will finalize standards developed in Codex Committees, and publish them in a Codex Alimentarius either as regional or worldwide standards.

Issues To Be Discussed at the Public Meeting

The following items on the agenda for the 33rd Session of the CAC will be discussed during the public meeting:

• Amendments to the Codex Procedural Manual

• Draft Standards and Related Texts Submitted to the Commission for Adoption

• Proposed Draft Standards and Related Texts Submitted at Step 5

• Existing Codex Standards and Related Texts whose Revocation is Recommended

• Proposals for the Elaboration of New Standards and Related Texts

• Financial and Budgetary Matters

• Strategic Planning of the Codex Alimentarius Commission

• General Matters Arising from the Reports of Codex Committees and Task Forces

• FAO/WHO Project and Trust Fund for Enhanced Participation in Codex

Each issue on the CAC agenda will be described in documents distributed by the Secretariat prior to the meeting. Members of the public may access copies of these documents (see ADDRESSES).

Public Meeting

At the June 8, 2010, public meeting, draft U.S. positions on the agenda items will be described and attendees will have the opportunity to pose questions and offer comments. Written comments may be offered at the meeting or sent to the U.S. Delegate for the 33rd Session of the CAC, Karen Stuck, U.S. Codex Manager (see ADDRESSES). Written comments should state that they relate to activities of the 33rd session of the CAC.

Additional Public Notification

Public awareness of all segments of rulemaking and policy development is important. Consequently, in an effort to ensure that minorities, women, and persons with disabilities are aware of this notice, FSIS will announce it online through the FSIS Web page located at http://www.fsis.usda.gov/Regulations_&_Policies/2010_Notices_Index/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done at Washington, DC on May 13, 2010.
Karen Stuck,
U.S. Manager for Codex Alimentarius.

[FR Doc. 2010-12005 Filed 5-18-10; 8:45 am]

BILLING CODE 3410-DM-P